DEPARTMENT OF TRANSPORTATION

Federal Aviation Administration

14 CFR Part 71

[Docket No. FAA-2011-0527; Airspace Docket No. 11-AWA-2]

Amendment of Class C Airspace; Palm Beach International Airport, FL

AGENCY: Federal Aviation Administration (FAA), DOT.

ACTION: Final rule.

SUMMARY: This action modifies the Palm Beach International Airport, FL, Class C airspace area by raising the floor of Class C airspace over Palm Beach County Park Airport. The FAA is taking this action to enhance safety and increase the efficiency of air traffic operations in the Palm Beach, FL, terminal area.

DATES: Effective Date: 0901 UTC, February 9, 2012. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

History

On June 21, 2011, the FAA published in the Federal Register a notice of proposed rulemaking to modify the Palm Beach, FL, Class C airspace area (76 FR 36014). Interested parties were invited to participate in this rulemaking effort by submitting written comments on the proposal. Five comments were received.

Discussion of Comments

Two commenters wrote in support of the proposal. Three commenters suggested a larger expansion of the 1,600-foot mean sea level (MSL) cutout area in the vicinity of Palm Beach County Park Airport (LNA) than was proposed in the NPRM. The commenters said that further expanding the cutout would benefit LNA traffic that primarily arrives from, or departs to, the west and east of the airport. The commenters believed that this would also allow more room for transient traffic not under the control of Palm Beach Approach to maneuver, provide better transit to the practice areas to the west and permit straight-out departures from LNA for aircraft headed eastbound to the Bahama Islands. The FAA considered these suggestions but determined that expanding the cutout as requested is not possible due to the impact on Palm Beach International Airport (PBI) traffic flows and the provision of Class C services. Procedures for departures from PBI runways 10L/R include dispersing aircraft headings for separation and to expedite departures. Turboprop and prop departures climb to 1,500 feet to allow the faster climbing jets to climb above. The dispersal headings vary from 030 to 160 degrees and the southern most heading would exit Class C airspace if the cutout was expanded. Additionally, accommodating PBI arrivals to runways 28L/R (especially the shorter general aviation runway) requires aircraft to basically line up with runway 32 (modified base leg). These aircraft are vectored at 1,500 feet to allow a better chance of seeing the airport while allowing vertical separation from Instrument Flight Rules (IFR) traffic to runway 28L/R. PBI runway 32 allows for relief from runway 28L/R finals during busy periods. Runway 32 aircraft must be afforded Class C services while being vectored and descending on final. PBI runway 14 departures are capped at 1,500 feet to allow for crossing downwind runway 10R Visual Flight Rules traffic at 2,000 feet and IFR aircraft at 3,000 feet. These departures also require Class C services as they depart and start their climbs to higher altitudes. Most aircraft departing LNA that are headed northbound contact Palm Beach Approach for approval. When PBI is landing/departing runways 10L/R and 14, the LNA departures are afforded the opportunity to stay just east of the shoreline at 500 feet, fly one mile off shore at 1,000 feet, or proceed overhead PBI at 2,000 feet. They are also allowed to proceed west of PBI, depending on traffic. When PBI is departing west (runways 28L/R and 32) aircraft are offered overhead or following the intracoastal waterway at 2,000 feet to top the arrivals into PBI. Regarding aircraft headed to the Bahama Islands, most aircraft call Palm Beach Approach for advisories/flight following due to the Atlantic Ocean crossing. These aircraft are rarely restricted unless traffic becomes a factor. However, the ability to turn/level off these aircraft affords Air Traffic Control the ability to climb above them. Expanding the 1,600-foot cutout would reduce the availability of Class C airspace and adversely affect the operations discussed above.

The Rule

This action amends Title 14 Code of Federal Regulations (14 CFR) part 71 by raising the floor of Class C airspace from 1,200 feet to 1,600 feet MSL within an area overlying, and to the south of, Palm Beach County Park Airport (see attached chart). Raising the Class C floor to 1,600 feet MSL enhances safety by providing additional clearance between rotorcraft and fixed-wing aircraft entering the traffic pattern at Palm Beach County Park Airport. This allows fixed-wing aircraft entering the traffic pattern to safely overfly the existing helicopter patterns and also allows Palm Beach County Park Airport helicopter training activities to take place at higher altitudes.

In addition, a minor correction is made to the latitude/longitude coordinates of Palm Beach County Park Airport to reflect the current information in FAA's aeronautical database.

Class C airspace areas are published in paragraph 4000 of FAA Order 7400.9V, dated August 9, 2011 and effective September 15, 2011, which is incorporated by reference in 14 CFR 71.1. The Class C airspace area amendment in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends a portion of the terminal airspace structure to enhance the safety of aircraft operating in the vicinity of Palm Beach, FL.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9V, Airspace Designations and Reporting Points, dated August 9, 2011 and effective September 15, 2011, is amended as follows:

Paragraph 4000 Class C Airspace

* * * * *

ASO FL C Palm Beach International Airport, FL [Amended]

Palm Beach International Airport, FL

(Lat. 26°40′59″ N., long. 80°05′44″ W.)

Palm Beach County Park Airport

(Lat. 26°35′35″ N., long. 80°05′06″ W.)

Boundaries

Area A. That airspace extending upward from the surface to and including 4,000 feet MSL within a 5-mile radius of the Palm Beach International Airport, excluding that airspace within a 2-mile radius of the Palm Beach County Park Airport.

Area B. That airspace extending upward from 1,600 feet MSL to and including 4,000 feet MSL within an area bounded on the north by a line direct from the intersection of the Florida Turnpike (highway 91) and Lantana Road to the intersection of a 5-mile radius of the Palm Beach International Airport and a 2-mile radius west of the Palm Beach County Park Airport and a 2-mile radius north of the Palm Beach County Park Airport, on the east by a line direct from the intersection of a 5-mile radius of the Palm Beach International Airport and a 2-mile radius east of the Palm Beach County Park Airport to the intersection of a 10-mile radius of the Palm Beach International Airport and US 1, on the south by a 10-mile radius of the Palm Beach International Airport, and on the west by the Florida Turnpike.

Area C. That airspace extending upward from 1,200 feet MSL to and including 4,000 feet MSL within a 10-mile radius of the Palm Beach International Airport, excluding Area B.

Issued in Washington, DC, on December 5, 2011.
Gary A. Norek,
Acting Manager, Airspace, Regulations and ATC Procedures Group.

BILLING CODE 4910-13-P

[FR Doc. 2011-31847 Filed 12-12-11; 8:45 am]

BILLING CODE 4910-13-C